DEPARTMENT OF COMMERCE

National Oceanic and Atmospheric Administration

[I.D. 012307B]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application from the University of New Hampshire (UNH) for an exemption from Gulf of Maine (GOM) Rolling Closure Areas III and IV and the days-at-sea (DAS) requirements of the Northeast (NE) Multispecies Fishery Management Plan (FMP), for the purpose of testing the ability of specific fish traps to catch haddock, contains all of the required information and warrants further consideration. The EFP is intended to facilitate research that would lead to the development of a viable alternative to traditional fishing gear for landing Atlantic haddock of a size and condition for use in the live fish market. The Assistant Regional Administrator has also made a preliminary determination that the activities authorized under the EFP would be consistent with the goals and objectives of the FMP. However, further review and consultation may be necessary before a final determination is made to issue the EFP. Therefore, NMFS announces that the Assistant Regional Administrator proposes to issue an EFP that would allow vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before February 26, 2007.

ADDRESSES: Comments on this notice may be submitted by e-mail. The mailbox address for providing e-mail comments is DA6210@noaa.gov. Include in the subject line of the e-mail comment the following document identifier: “Comments on UNH Haddock Trap (DA6-210).” Written comments should be sent to Patricia A. Kurkul, Regional Administrator, NMFS, Northeast Regional Office, 1 Blackburn Drive, Gloucester, MA 01930. Mark the outside of the envelope “Comments on UNH Haddock Trap (DA6-210).” Comments may also be sent via facsimile (fax) to (978) 281-9135.

FOR FURTHER INFORMATION CONTACT: Moira Kelly, Fishery Management Specialist, phone: 978-281-9218, fax: 978-281-9135.

SUPPLEMENTARY INFORMATION: A complete application for an EFP was submitted on July 7, 2006, by Dr. Ken La Valley of UNH. The research is intended to lead to the development of a viable alternative to traditional fishing gear for landing Atlantic haddock of a size and condition for use in the live fish market. This project is funded by the Northeast Consortium. The original EFP was issued on September 18, 2006. Due to circumstances beyond the control of the researchers, the research was unable to be completed during the exempted time period (September through November 2006). On November 14, 2006, Dr. La Valley requested extending the EFP from March through August 2007. However, the change in time-frame requires an additional exemption from the GOM Rolling Closure Areas III and IV and is, therefore, not eligible for an extension. A new EFP is necessary for UNH to complete this research.

On July 7, 2006, UNH requested an exemption from the DAS requirements and, on November 14, 2006, UNH requested an exemption from the GOM Rolling Closure Areas III and IV in order to test the effectiveness of two demersal fish trap designs, i.e., Pacific and Norwegian cod pots, modified for catching large Atlantic haddock for use in the live fish market. A DAS exemption is requested to allow the fishing vessel to economically assist in this research. No fish would be retained or landed. The research would take place in the 30 minute squares, included in the Rolling Closure Areas III and IV, that correspond to areas 137, 138, 145, and 146, and specifically the project area would be bounded by the lines extending from 43°38′ N. lat., 69°40′ W. long. (NW corner), eastwards to 43°38′ N. lat.; 69°21′ W. long. (NE corner), south to 43°20′ N. lat.; 69°21′ W. long. (SE corner), and westward to 43°20′ N. lat.; 69°40′ W. long. (SW corner). An exemption from the GOM Rolling Closure Areas III and IV is necessary to provide continuity with the portion of the research conducted under the previously issued EFP. This area was originally chosen because the researcher believes that an optimal mix of high abundance of haddock and low abundance of cod in this area will allow him to accurately assess the selectivity of the gear.

The Norwegian two-chamber fish pot design has two fairly wide entrance funnels leading into the lower chamber, with a narrow entrance leading to an upper chamber. For this experiment, this fish trap would be modified to use vertical mounted triggers in order to allow easy entrance for fish and would provide a larger internal volume compared to the Norwegian design. The Pacific cod pot is a 6-ft x 6-ft x 3-ft (1.83-m x 1.83-m x 0.91-m) design that has triggers on three sides of the pot to allow increased opportunities to enter the trap, with shallow leads leading to the tunnel eye. The Pacific trap design would be modified such that it would be collapsible and would incorporate vertical mounted triggers, instead of horizontal triggers typically used for cod.

In addition, haddock specific baits would be tested during the project and, an underwater video camera would be used to document haddock behavior in and around each trap design. The camera would be deployed on a trap, containing haddock from an onboard auxiliary group, a significant distance from the test site, so as not to influence fish behavior due to the lights.

A total of 12 traps were to be deployed, and 10-14 hauls were to be made, with an average soak time of 24 hr, over 10 days. Under the EFP issued on September 18, 2006, only 5 days of research were completed. The remaining 5 days would be conducted under this EFP.

The researchers intend to target haddock, but anticipate some incidental catch of Atlantic cod, pollock, redfish, and spiny dogfish. Once caught, fish would be sorted by species, measured, weighed, and returned to the water. No fish, shellfish, or other animals would be retained. The researchers estimate that less than 1,000 lb (453.6 kg) of haddock and less than 500 lb (226.8 kg) of all incidental species, combined, would be collected and returned to the water. The intent is for this project to take place between March and August 2007.

The applicant may place requests for minor modifications and extensions to the EFP throughout the year. EFP modifications and extensions may be granted without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following the public comment period.

Authority: 16 U.S.C. 1801 et seq.

Dated: January 23, 2007.
James P. Burgess,
Acting Director, Office of Sustainable Fisheries, National Marine Fisheries Service.

[FR Doc. E7-1194 Filed 1-25-07; 8:45 am]

BILLING CODE 3510-22-S